FEDERAL MARITIME COMMISSION

[Docket No. 11-11]

Marine Repair Services of Maryland, Inc. v. Ports America Chesapeake, LLC; Notice of Filing of Complaint and Assignment

Notice is given that a complaint has been filed with the Federal Maritime Commission (“Commission”) by Marine Repair Services of Maryland, Inc., hereinafter “Complainant,” against Ports America Chesapeake, LLC, hereinafter “Respondent”. Complainant asserts that it is a corporation organized under the laws of the state of Maryland. Complainant alleges that Respondent is a marine terminal operator and a limited liability company organized under the laws of the state of Delaware, and authorized to do business in Maryland.

Complainant alleges that Respondent violated the Shipping Act of 1984 by unreasonably prejudicing and disadvantaging Complainant in its business operations at the Port of Baltimore, and unreasonably refusing to deal with Complainant, 46 U.S.C. 41106(2) and 41106(3). Complainant requests “that Respondent Ports America Chesapeake LLC be required to answer the charges herein; that after due hearing, an order be made commanding Respondent Ports America Chesapeake LLC: (1) To cease and desist from the aforesaid violations of the Shippers (sic) Act of 1984 (as amended and codified); (2) to establish and put in force such practices as the Commission determines to be lawful and reasonable; (3) to pay to Complainant Marine Repair Services of Maryland, Inc., by way of reparations for the unlawful conduct described above in the amount of no less than $900,000.00, with interest and attorney's fees or such sum as the Commission may determine to be proper as an award of reparation; and (4) that such other and further order or orders be made as the Commission determines to be proper in the premises.” The full text of the complaint can be found in the Commission's Electronic Reading Room at http://www.fmc.gov.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by July 19, 2012 and the final decision of the Commission shall be issued by November 16, 2012.

Karen V. Gregory,
Secretary.

[FR Doc. 2011-18762 Filed 7-25-11; 8:45 am]

BILLING CODE 6730-01-P